SUSQUEHANNA RIVER BASIN COMMISSION

Projects Approved for Consumptive Uses of Water

AGENCY: Susquehanna River Basin Commission.

ACTION: Notice.

SUMMARY: This notice lists Approvals by Rule for projects by the Susquehanna River Basin Commission during the period set forth in DATES.

DATES: November 1-30, 2023.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists the projects, described below, receiving approval for the consumptive use of water pursuant to the Commission's approval by rule process set forth in 18 CFR 806.22(f) for the time period specified above.

Water Source Approval—Issued Under 18 CFR 806.22(f)

1. RENEWAL—BKV Operating, LLC; Pad ID: Reimiller 1; ABR-201110001.R2; Meshoppen Township, Wyoming County, Pa.; Consumptive Use of Up to 5.0000 mgd; Approval Date: November 6, 2023.

2. RENEWAL—Blackhill Energy LLC; Pad ID: WALLACE Pad; ABR-201110032.R2; Smithfield Township, Bradford County, Pa.; Consumptive Use of Up to 4.9990 mgd; Approval Date: November 6, 2023.

3. RENEWAL—Chesapeake Appalachia, L.L.C.; Pad ID: Alkan; ABR-201110021.R2; Wilmot Township, Bradford County, Pa.; Consumptive Use of Up to 7.5000 mgd; Approval Date: November 6, 2023.

4. RENEWAL—Chesapeake Appalachia, L.L.C.; Pad ID: Cook; ABR-201111001.R2; Rush Township, Susquehanna County, Pa.; Consumptive Use of Up to 7.5000 mgd; Approval Date: November 6, 2023.

5. RENEWAL—Inflection Energy (PA) LLC; Pad ID: Hillegas Well Pad; ABR-201308017.R2; Upper Fairfield Township, Lycoming County, Pa.; Consumptive Use of Up to 4.0000 mgd; Approval Date: November 6, 2023.

6. RENEWAL—Chesapeake Appalachia, L.L.C.; Pad ID: Knapp; ABR-201111003.R2; Burlington Township, Bradford County, Pa.; Consumptive Use of Up to 7.5000 mgd; Approval Date: November 13, 2023.

7. RENEWAL—Coterra Energy Inc.; Pad ID: FoltzJ P1; ABR-201311002.R2; Brooklyn Township, Susquehanna County, Pa.; Consumptive Use of Up to 4.2500 mgd; Approval Date: November 13, 2023.

8. RENEWAL—Range Resources—Appalachia, LLC; Pad ID: Sechrist, Mark -#1H-#3H; ABR-201111005.R2; Anthony Township, Lycoming County, Pa.; Consumptive Use of Up to 4.0000 mgd; Approval Date: November 13, 2023.

9. RENEWAL—Chesapeake Appalachia, L.L.C.; Pad ID: BIM; ABR-201311006.R2; Wilmot Township, Bradford County, Pa.; Consumptive Use of Up to 7.5000 mgd; Approval Date: November 17, 2023.

10. RENEWAL—Chesapeake Appalachia, L.L.C.; Pad ID: Coyle; ABR-201111009.R2; Albany Township, Bradford County, Pa.; Consumptive Use of Up to 7.5000 mgd; Approval Date: November 17, 2023.

11. RENEWAL—Chesapeake Appalachia, L.L.C.; Pad ID: Krise; ABR-201111022.R2; Leroy Township, Bradford County, Pa.; Consumptive Use of Up to 7.5000 mgd; Approval Date: November 17, 2023.

12. RENEWAL—Chesapeake Appalachia, L.L.C.; Pad ID: Lines; ABR-201111017.R2; Monroe Township, Bradford County, Pa.; Consumptive Use of Up to 7.5000 mgd; Approval Date: November 17, 2023.

13. RENEWAL—Chesapeake Appalachia, L.L.C.; Pad ID: Madigan Farms A Drilling Pad #1; ABR-201111016.R2; Burlington Township, Bradford County, Pa.; Consumptive Use of Up to 7.5000 mgd; Approval Date: November 17, 2023.

14. RENEWAL—Chesapeake Appalachia, L.L.C.; Pad ID: Richard; ABR-201111010.R2; Rush Township, Susquehanna County, Pa.; Consumptive Use of Up to 7.5000 mgd; Approval Date: November 17, 2023.

15. RENEWAL—Chesapeake Appalachia, L.L.C.; Pad ID: Robbins; ABR-201111018.R2; Ulster Township, Bradford County, Pa.; Consumptive Use of Up to 7.5000 mgd; Approval Date: November 17, 2023.

16. RENEWAL—Chesapeake Appalachia, L.L.C.; Pad ID: Williamson; ABR-201111019.R2; Smithfield Township, Bradford County, Pa.; Consumptive Use of Up to 7.5000 mgd; Approval Date: November 17, 2023.

17. RENEWAL—Coterra Energy Inc.; Pad ID: AckerC P1; ABR-201311004.R2; Bridgewater Township, Susquehanna County, Pa.; Consumptive Use of Up to 5.0000 mgd; Approval Date: November 17, 2023.

18. RENEWAL—Repsol Oil & Gas USA, LLC; Pad ID: DCNR 594 (02-201); ABR-201811001.R1; Liberty Township, Tioga County, Pa.; Consumptive Use of Up to 6.0000 mgd; Approval Date: November 17, 2023.

19. RENEWAL—Blackhill Energy LLC; Pad ID: ASHBY Pad; ABR-201110031.R2; Athens Township, Bradford County, Pa.; Consumptive Use of Up to 4.9990 mgd; Approval Date: November 22, 2023.

20. RENEWAL—Chesapeake Appalachia, L.L.C.; Pad ID: Kupscznk B Drilling Pad; ABR-201311007.R2; Springville Township, Susquehanna County, Pa.; Consumptive Use of Up to 7.5000 mgd; Approval Date: November 22, 2023.

21. RENEWAL—Chesapeake Appalachia, L.L.C.; Pad ID: Loch Drilling Pad; ABR-201311001.R2; Nicholson Township, Wyoming County, Pa.; Consumptive Use of Up to 7.5000 mgd; Approval Date: November 22, 2023.

22. RENEWAL—Coterra Energy Inc.; Pad ID: AndersonR P1; ABR-201311009.R2; Auburn Township, Susquehanna County, Pa.; Consumptive Use of Up to 5.0000 mgd; Approval Date: November 22, 2023.

23. RENEWAL—EQT ARO LLC; Pad ID: Terry D. Litzelman Pad A; ABR-201211005.R2; Cogan House Township, Lycoming County, Pa.; Consumptive Use of Up to 4.0000 mgd; Approval Date: November 22, 2023.

24. RENEWAL—Repsol Oil & Gas USA, LLC; Pad ID: CLDC (02 177); ABR-201811002.R1; Ward Township, Tioga County, Pa.; Consumptive Use of Up to 6.0000 mgd; Approval Date: November 22, 2023.

25. RENEWAL—Chesapeake Appalachia, L.L.C.; Pad ID: Bodolus; ABR-201111028.R2; Litchfield Township, Bradford County, Pa.; Consumptive Use of Up to 7.5000 mgd; Approval Date: November 26, 2023.

26. RENEWAL—Chesapeake Appalachia, L.L.C.; Pad ID: Garrison West Drilling Pad; ABR-201311010.R2; Lemon Township, Wyoming County, Pa.; Consumptive Use of Up to 7.5000 mgd; Approval Date: November 26, 2023.

27. RENEWAL—Chesapeake Appalachia, L.L.C.; Pad ID: Gregerson; ABR-201111025.R2; Auburn Township, Susquehanna County, Pa.; Consumptive Use of Up to 7.5000 mgd; Approval Date: November 26, 2023.

28. RENEWAL—Chesapeake Appalachia, L.L.C.; Pad ID: Pond Family; ABR-201811004.R1; Colley Township, Sullivan County; and Wilmot Township, Bradford County, Pa.; Consumptive Use of Up to 7.5000 mgd; Approval Date: November 26, 2023.

29. RENEWAL—Chesapeake Appalachia, L.L.C.; Pad ID: Kupetsky; ABR-201211010.R2; Nicholson Township, Wyoming County, Pa.; Consumptive Use of Up to 7.5000 mgd; Approval Date: November 29, 2023.

30. RENEWAL—Chesapeake Appalachia, L.L.C.; Pad ID: Kupscznk D Drilling Pad; ABR-201311003.R2; Springville Township, Susquehanna County, Pa.; Consumptive Use of Up to 7.5000 mgd; Approval Date: November 29, 2023.

31. RENEWAL—Chesapeake Appalachia, L.L.C.; Pad ID: Nelson Drilling Pad #1; ABR-201111031.R2; Forks Township, Sullivan County, Pa.; Consumptive Use of Up to 7.5000 mgd; Approval Date: November 29, 2023.

32. RENEWAL—Coterra Energy Inc.; Pad ID: PowersM P1; ABR-201811003.R1; Auburn Township, Susquehanna County, Pa.; Consumptive Use of Up to 5.0000 mgd; Approval Date: November 29, 2023.

Authority: Public Law 91-575, 84 Stat. 1509 et seq., 18 CFR parts 806 and 808.

Dated: December 8, 2023.
Jason E. Oyler,
General Counsel and Secretary to the Commission.

[FR Doc. 2023-27344 Filed 12-12-23; 8:45 am]

BILLING CODE 7040-01-P